DEPARTMENT OF HEALTH AND HUMAN SERVICE

Centers for Disease Control and Prevention

[Program Announcement 01130]

National Program To Promote Physical Activity Among Youth; Notice of Availability of Funds Correction

AGENCY: Centers for Disease Control and Prevention, HHS.

ACTION: Program announcement number; correction.

SUMMARY: The Centers for Disease Control and Prevention published Program Announcement 01030 in the Federal Register of May 23, 2001, The Program Announcement number was incorrect.

FOR FURTHER INFORMATION CONTACT: Cynthia R. Collins, 770-488-2757 Correction.

In the Federal Register of May 23, 2001, in FR Vol 66, No. 100, Doc. 01-12984, on page 28518, in the third column, correct the “Program Announcement number” caption to read: [Program Announcement 011230] as set forth in the heading above.

Dated: May 25, 2001.
Henry S. Cassell III,
Acting Director, Procurement and Grants Office, Centers for Disease Control and Prevention (CDC).

[FR Doc. 01-13735 Filed 5-31-01; 8:45 am]

BILLING CODE 4163-18-M